INTERNATIONAL TRADE COMMISSION

[Inv. No. 337-TA-713]

Certain Display Devices, Including Digital Televisions and Monitors; Notice of Investigation

AGENCY: U.S. International Trade Commission.

ACTION: Institution of investigation pursuant to 19 U.S.C. 1337.

SUMMARY: Notice is hereby given that a complaint was filed with the U.S. International Trade Commission on March 18, 2010, under section 337 of the Tariff Act of 1930, as amended, 19 U.S.C. 1337, on behalf of Sony Corporation of Japan. A letter supplementing the complaint was filed on April 14, 2010. The complaint alleges violations of section 337 based upon the importation into the United States, the sale for importation, and the sale within the United States after importation of certain display devices, including digital televisions and monitors by reason of infringement of certain claims of U.S. Patent Nos. 5,434,626; 5,751,373; 6,111,614; 5,583,577; 5,684,542; 5,731,847; 6,661,472; 6,816,131; Re 38,055 and Re 40,468. The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Mareesa A. Frederick, Esq., Office of Unfair Import Investigations, U.S. International Trade Commission, telephone (202) 205-2055.

Authority: The authority for institution of this investigation is contained in section 337 of the Tariff Act of 1930, as amended, and in section 210.10 of the Commission's Rules of Practice and Procedure, 19 CFR 210.10 (2010).

Scope of Investigation: Having considered the complaint, the U.S. International Trade Commission, on April 14, 2010, ordered that—

(1) Pursuant to subsection (b) of section 337 of the Tariff Act of 1930, as amended, an investigation be instituted to determine whether there is a violation of subsection (a)(1)(B) of section 337 in the importation into the United States, the sale for importation, or the sale within the United States after importation of certain display devices, including digital televisions or monitors that infringe one or more of claims 41, 44, 45, 61, and 64 of U.S. Patent No. Re 38,055; claims 41-44 of U.S. Patent No. Re 40,468; claims 13, 15, 19, and 20 of U.S. Patent No. 5,583,577; claims 6 and 8 of U.S. Patent No. 5,684,542; claims 11, 12, 16, 27, 33-35, and 39-41 of U.S. Patent No. 5,731,847; claims 1-4, 8, and 11-15 of U.S. Patent No. 6,661,472; claims 1, 4, 20-22, 29, 30, 32, and 33 of U.S. Patent No. 5,434,626; claims 1 and 5 of U.S. Patent No. 5,751,373; claims 1-4 of U.S. Patent No. 6,111,614; and claims 9, 12, 17, 19, 25, 26, 28, and 35 of U.S. Patent No. 6,816,131, and whether an industry in the United States exists as required by subsection (a)(2) of section 337;

(2) For the purpose of the investigation so instituted, the following are hereby named as parties upon which this notice of investigation shall be served:

(a) The complainant is:

Sony Corporation, 1-7-1, Konan, Minato-ku, Tokyo, Japan.

(b) The respondents are the following entities alleged to be in violation of section 337, and are the parties upon which the complaint is to be served:

TPV Technology Limited, Suite 1023, 10th Floor, Ocean Centre, Harbour City, 5 Canton Road, Tsim Sha Tsui, Kowloon, Hong Kong.

Top Victory Electronics (Taiwan) Co., Ltd., 10F, No. 230, Liancheng Road, Zhounghe City, Taipei County, Taiwan.

TPV International (USA), Inc., 3737 Executive Center Drive, Suite 261, Austin, Texas 78731.

Envision Peripherals, Inc., 47490 Seabridge Drive, Fremont, California 94538.

Top Victory Investments Ltd., Suite 1023, 10th Floor, Ocean Centre, Harbour City, Tsim Sha Tsui, Kowloon, Hong Kong.

TPV Electronics (Fujian) Co., Ltd., Yuan Hong Road, Shang-zheng, Fuqing City, Fujian Province, China.

TPV Display Technology (Wuhan) Co., Ltd., Unique No. 11 of Zhuankou Development, District of Economic Technological, Development Zone, Wuhan City, China.

TPV Technology (Beijing) Co., Ltd., No. 10, Jiuxianqiao Road, Chaoyang District, Beijing, China 100016.

Chimei Innolux Corporation, No. 160 Kesyue Road, Jhunan Science Park, Miaoli County 350, Taiwan.

Innolux Corporation, 2525 Brockton Drive, Suite 300, Austin, Texas 78758.

ViewSonic Corporation, 381 Brea Canyon Road, Walnut, California 91789.

(c) The Commission investigative attorney, party to this investigation, is Mareesa A. Frederick, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: April 16, 2010.
By order of the Commission.
Marilyn R. Abbott,
Secretary to the Commission.

[FR Doc. 2010-9201 Filed 4-20-10; 8:45 am]

BILLING CODE 7020-02-P